DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Debris Survey in the Coastal North Carolina Region.

OMB Control Number: None.

Form Number(s): None.

Type of Request: Regular submission.

Burden Hours: 160.

Number of Respondents: 383.

Average Hours per Response: 25 minutes.

Needs and Uses: The National Oceanic and Atmospheric Administration's (NOAA) National Ocean Service (NOS) Center for Coastal Fisheries and Habitat Research (CCFHR) has received funding from the NOAA Marine Debris Program to assess perceptions of marine debris (including derelict fishing gear) occurrence and distribution, environmental impacts, potential causes, and suggestions for reduction. The mandate supporting this research are the Marine Debris Research, Prevention, and Reduction Act of 2006 (33 U.S.C. 1951 et seq.), and the Coastal Zone Management Act of 1972 (16 U.S.C. 1455).

NOS CCFHR requests information from fishermen holding either a commercial fishing license or a license for recreational fishermen to use commercial fishing gear issued by the State of North Carolina. Upon receipt, this information will help determine the status of marine debris within Core and Back Sounds, North Carolina.

Affected Public: Business or other for-profit organizations; individuals or households.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 19, 2008.
Gwellnar Banks,
Management Analyst, Office of the Chief Information Officer.

[FR Doc. E8-27856 Filed 11-21-08; 8:45 am]

BILLING CODE 3510-22-P